DEPARTMENT OF COMMERCE

Foreign-Trade Zones Board

[Docket 38-2001]

Foreign-Trade Zone 72, Indianapolis, IN, Application for Subzone, Rolls Royce Corporation (Gas Turbine Engines), Indianapolis, IN

An application has been submitted to the Foreign-Trade Zones Board (the Board) by the Indianapolis Airport Authority, grantee of FTZ 72, requesting special-purpose subzone status for the gas turbine engine manufacturing plant of Rolls Royce Corporation in Indianapolis, Indiana. The application was submitted pursuant to the provisions of the Foreign-Trade Zones Act, as amended (19 U.S.C. 81a-81u), and the regulations of the Board (15 CFR part 400). It was formally filed on September 18, 2001.

The engine manufacturing facilities of Rolls Royce in Indianapolis included in this application consist of three sites covering 415 acres with four million square feet of plant space: Site 1 (203 acres; 2.7 million sq. ft.)—“Plant 5,” 2355 South Tibbs Ave., Indianapolis; Site 2 (211 acres; 1 million sq. ft.)—“Plant 8,” 2001 South Tibbs Ave., Indianapolis; Site 3 (0.7 acres; 32,000 sq. ft.)—“Single Crystal Site,” 5601 Fortune Circle South, Indianapolis. The facilities (5,000 employees) produce gas turbine engines and engine parts. The engines are used for aircraft, marine and industrial applications. Foreign-sourced materials account for approximately 17 percent of material value, and include parts of turbojets, parts of turbo-propellers, parts of other gas turbines, cast iron parts for turbojets, fuel/lubrication/cooling pumps, bearings, aircraft parts, fasteners, containers, and paints.

Zone procedures would exempt Rolls Royce from Customs duty payments on foreign materials used in production for export. On domestic sales, the company would be able to choose the duty rates that apply to the finished products (duty-free to 2.5 %) rather than the duty rates that would otherwise apply to the foreign-sourced materials noted above (duty-free to 9 %). The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is November 26, 2001. Rebuttal comments in response to material submitted during the foregoing period may be submitted during the subsequent 15-day period (to December 11, 2001).

A copy of the application and accompanying exhibits will be available for public inspection at the Office of the Foreign-Trade Zones Board's Executive Secretary at address Number 1 listed above, and at the U.S. Department of Commerce Export Assistance Center, 11405 North Pennsylvania Street, Suite 106, Carmel, IN 46032.

Dated: September 19, 2001.
Dennis Puccinelli,
Executive Secretary.

[FR Doc. 01-24081 Filed 9-25-01; 8:45 am]

BILLING CODE 3510-DS-P